DEPARTMENT OF COMMERCE

National Oceanic and Atmospheric Administration

RIN 0648-XB081

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Pacific Council and its advisory entities will meet March 31-April 6, 2012. The Pacific Council meeting will begin on Sunday, April 1, 2012 at 10 a.m., reconvening each day through Friday, April 6, 2012. All meetings are open to the public, except a closed session will be held at the end of the day on Sunday, April 1 to address litigation and personnel matters. The Pacific Council will meet as late as necessary each day to complete its scheduled business.

ADDRESSES: The meetings of the Council will be held at the Sheraton Seattle Hotel, 1400 Sixth Avenue, Seattle, WA 98101; telephone: (206) 621-9000.

Council address: Pacific Fishery Management Council, 7700 NE Ambassador Place, Suite 101, Portland, OR 97220.

FOR FURTHER INFORMATION CONTACT: Dr. Donald O. McIsaac, Executive Director; telephone: (503) 820-2280 or (866) 806-7204 toll free; or access the Pacific Council Web site, http://www.pcouncil.org for the current meeting location, proposed agenda, and meeting briefing materials.

SUPPLEMENTARY INFORMATION: The following items are on the Pacific Council agenda, but not necessarily in this order:

A. Call to Order

1. Opening Remarks

2. Roll Call

3. Executive Director's Report

4. Approve Agenda

B. Open Comment Period

Comment on Non-Agenda Items

C. Habitat

Current Habitat Issues

D. Enforcement Issues

Current Enforcement Issues

E. Salmon Management

1. National Marine Fisheries Service (NMFS) Report

2. Tentative Adoption of 2012 Ocean Salmon Management Measures for Analysis

3. Sacramento Winter Run Impact Specifications

4. Methodology Review Process and Preliminary Topic Selection for 2012

5. Clarify Council Direction on 2012 Management Measures

6. Southern Oregon-Northern California Coastal Coho Plan

7. Final Action on 2012 Management Measures

F. Pacific Halibut Management

Final Incidental Catch Recommendations for 2012 Salmon Troll and Fixed Gear Sablefish Fisheries

G. Coastal Pelagic Species Management

1. NMFS Report

2. Exempted Fishing Permit for 2012 Northwest Aerial Sardine Survey

H. Administrative Matters

1. Coastal Marine Spatial Planning Update

2. Legislative Matters

3. Draft Memorandum of Understanding for the Conservation of Migratory Birds

4. Membership Appointments and Council Operating Procedures

5. Future Council Meeting Agenda and Workload Planning

I. Groundfish Management

1. NMFS Report

2. Implementation of the 2012 Pacific Whiting Fishery under the U.S.-Canada Pacific Whiting Agreement

3. Tentative Adoption of 2013-14 Biennial Harvest Specifications and Management Measures

4. Trawl Rationalization Trailing Actions and Allocation Amendments and Actions

5. Reconsideration of Initial Individual Fishery Quotas in the At-Sea Mothership and Shoreside Pacific Whiting Trawl Fisheries

6. Groundfish Essential Fish Habitat Review

7. Consideration of Inseason Adjustments

8. Adoption of 2013-14 Biennial Harvest Specifications and Management Measures

Schedule of Ancillary Meetings

Day 1—Saturday, March 31, 2012

Groundfish Management Team: 8 a.m.

Habitat Committee: 8 a.m.

Legislative Committee: 3 p.m.

Day 2—Sunday, April 1, 2012

California State Delegation: 7 a.m.

Oregon State Delegation: 7 a.m.

Washington State Delegation: 7 a.m.

Groundfish Advisory Subpanel: 8 a.m.

Groundfish Management Team: 8 a.m.

Model Evaluation Workgroup: 8 a.m.

Salmon Advisory Subpanel: 8 a.m.

Salmon Technical Team: 8 a.m.

Scientific and Statistical Committee: 8 a.m.

Tribal Policy Group: 8 a.m.

Tribal and Washington Technical Group: 8 a.m.

Enforcement Consultants: 4:30 p.m.

Chair's Reception: 6 p.m.

Day 3—Monday, April 2, 2012

California State Delegation: 7 a.m.

Oregon State Delegation: 7 a.m.

Washington State Delegation: 7 a.m.

Groundfish Advisory Subpanel: 8 a.m.

Groundfish Management Team: 8 a.m.

Salmon Advisory Subpanel: 8 a.m.

Salmon Technical Team: 8 a.m.

Tribal Policy Group: 8 a.m.

Tribal and Washington Technical Group: 8 a.m.

Scientific and Statistical Committee Economic and Groundfish Subcommittees: 8:30 a.m.

Enforcement Consultants: As Necessary

Day 4—Tuesday, April 3, 2012

California State Delegation: 7 a.m.

Oregon State Delegation: 7 a.m.

Washington State Delegation: 7 a.m.

Groundfish Advisory Subpanel: 8 a.m.

Groundfish Management Team: 8 a.m.

Salmon Advisory Subpanel: 8 a.m.

Salmon Technical Team: 8 a.m.

Tribal Policy Group: 8 a.m.

Tribal and Washington Technical Group: 8 a.m.

Electronic Monitoring Technical Presentation: 7 p.m.

Enforcement Consultants: As Necessary

Day 5—Wednesday, April 4, 2012

California State Delegation: 7 a.m.

Oregon State Delegation: 7 a.m.

Washington State Delegation: 7 a.m.

Groundfish Advisory Subpanel: 8 a.m.

Groundfish Management Team: 8 a.m.

Salmon Advisory Subpanel: 8 a.m.

Salmon Technical Team: 8 a.m.

Tribal Policy Group: 8 a.m.

Tribal and Washington Technical Group: 8 a.m.

Observer Data Workshop: 7 p.m.

Enforcement Consultants: As Necessary

Integrated Ecosystem Analysis Informational Sessions: 8 a.m.-5 p.m.

Day 6—Thursday, April 5, 2012

California State Delegation: 7 a.m.

Oregon State Delegation: 7 a.m.

Washington State Delegation: 7 a.m.

Groundfish Advisory Subpanel: 8 a.m.

Groundfish Management Team: 8 a.m.

Salmon Advisory Subpanel: 8 a.m.

Salmon Technical Team: 8 a.m.

Tribal Policy Group: 8 a.m.

Tribal and Washington Technical Group: 8 a.m.

Enforcement Consultants: As Necessary

Day 7—Friday, April 6, 2012

California State Delegation: 7 a.m.

Oregon State Delegation: 7 a.m.

Washington State Delegation: 7 a.m.

Salmon Technical Team: 8 a.m.

Although non-emergency issues not contained in this agenda may come before this Council for discussion, those issues may not be the subject of formal Council action during these meetings. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: March 8, 2012.
Tracey L. Thompson,
Acting Director, Office of Sustainable Fisheries, National Marine Fisheries Service.

[FR Doc. 2012-6061 Filed 3-13-12; 8:45 am]

BILLING CODE 3510-22-P